CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of its Senior Corps Project Progress Report (PPR)—OMB Control Number 3045-0033, with an expiration date of August 31, 2010. In conjunction with the PPR renewal, the Corporation proposes to modify the PPR reporting frequency of narratives and work plans from semi-annual submission to annual submission.

Copies of the information collection requests can be obtained by contacting the office listed in the address section of this notice.

DATES: Written comments must be submitted to the individual and office listed in the ADDRESSES section by May 11, 2010.

ADDRESSES: You may submit comments, identified by the title of the information collection activity, by any of the following methods: (1) By mail sent to: Corporation for National and Community Service, Senior Corps; Attention Ms. Angela Roberts, Acting Director, Room 9401; 1201 New York Avenue, NW., Washington, DC 20525. (2) By hand delivery or by courier to the Corporation's mailroom on the 8th Floor at the mail address given in paragraph (1) above, between 9 a.m. and 4 p.m. Monday through Friday, except Federal holidays. (3) By fax to: (202) 606-3475, Attention Ms. Angela Roberts, Acting Director. (4) Electronically through the Corporation's e-mail address system: aroberts@cns.gov.

FOR FURTHER INFORMATION CONTACT: Angela Roberts, (202) 606-6822 or by e-mail at aroberts@cns.gov.

SUPPLEMENTARY INFORMATION: The Corporation is particularly interested in comments that:

Evaluate whether the proposed collection of information is necessary for the proper performance of the functions of the Corporation, including whether the information will have practical utility;

Evaluate the accuracy of the agency's estimate of the burden of the proposed collection of information, including the validity of the methodology and assumptions used;

Enhance the quality, utility, and clarity of the information to be collected; and

Minimize the burden of the collection of information on those who are expected to respond, including the use of appropriate automated, electronic, mechanical, or other technological collection techniques or other forms of information technology (e.g., permitting electronic submissions of responses).

Background

The Progress Report (PPR) was designed to assure that grantees of the Senior Corps' programs (RSVP, Foster Grandparent and Senior Companion Programs) address and fulfill legislated program purposes; meet agency program management and grant requirements; track and measure progress to benefit the local project and its contributions to senior volunteers and the community; and to report progress toward work plan objectives agreed upon in the granting of the award.

Current Action

The Corporation seeks to renew and revise the current OMB approved Progress Report. When revised, the Progress Report will change the submission frequency of narrative and work plan sections from semi-annual to annual. The revised PPR will be used in the same manner as the existing PPR to report progress toward accomplishing work plan goals and objectives, reporting volunteer and service outputs; reporting actual outcomes related to self-nominated performance measures meeting challenges encountered, describing significant activities, and requesting technical assistance.

Type of Review: Renewal.

Agency: Corporation for National and Community Service.

Title: Senior Corps Project Progress Report.

OMB Number: 3045-0033.

Agency Number: CNCS Form 1020.

Affected Public: Sponsors of Senior Corps grants.

Total Respondents: 1,300.

Frequency: Work plans and narratives: Annual. Data demographics: Annual.

Average Time per Response: 4 hours.

Estimated Total Burden Hours: 5,200 hours.

Total Burden Cost (capital/startup): None.

Total Burden Cost (operating/maintenance): $0.

Comments submitted in response to this notice will be summarized and/or included in the request for Office of Management and Budget approval of the information collection request; they will also become a matter of public record.

Dated: March 8, 2010.
Angela Roberts,
Acting Director, Senior Corps.

[FR Doc. 2010-5437 Filed 3-11-10; 8:45 am]

BILLING CODE 6050-$$-P